NATIONAL FOUNDATION ON THE ARTS AND THE HUMANITIES

National Endowment for the Humanities

Meetings of Humanities Panel

AGENCY: National Endowment for the Humanities.

ACTION: Notice of meetings.

SUMMARY: The National Endowment for the Humanities will hold seventeen meetings of the Humanities Panel, a federal advisory committee, during October, 2015. The purpose of the meetings is for panel review, discussion, evaluation, and recommendation of applications for financial assistance under the National Foundation on the Arts and Humanities Act of 1965.

DATES: See SUPPLEMENTARY INFORMATION section for meeting dates.

ADDRESSES: The meetings will be held at Constitution Center at 400 7th Street SW., Washington, DC 20506. See SUPPLEMENTARY INFORMATION for meeting room numbers.

FOR FURTHER INFORMATION CONTACT: Lisette Voyatzis, Committee Management Officer, 400 7th Street SW., Room 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. DATE: October 1, 2015.

TIME: 8:30 a.m. to 5:00 p.m.

ROOM: P002.

This meeting will discuss applications on the subject of U.S. History and Culture: Social History, for the Humanities Collections and Reference Resources grant program, submitted to the Division of Preservation and Access.

2. DATE: October 5, 2015.

TIME: 8:30 a.m. to 5:00 p.m.

ROOM: 4002.

This meeting will discuss applications for the Humanities Initiatives at Community Colleges grant program, submitted to the Division of Education Programs.

3. DATE: October 6, 2015.

TIME: 8:30 a.m. to 5:00 p.m.

ROOM: P002.

This meeting will discuss applications on the subject of U.S. History and Culture: Colonial Era to Early 1900s, for the Humanities Collections and Reference Resources grant program, submitted to the Division of Preservation and Access.

4. DATE: October 6, 2015.

TIME: 8:30 a.m. to 5:00 p.m.

ROOM: 4002.

This meeting will discuss applications for the Humanities Initiatives at Community Colleges grant program, submitted to the Division of Education Programs.

5. DATE: October 8, 2015.

TIME: 8:30 a.m. to 5:00 p.m.

ROOM: P002.

This meeting will discuss applications on the subject of Literature, for the Humanities Collections and Reference Resources grant program, submitted to the Division of Preservation and Access.

6. DATE: October 8, 2015.

TIME: 8:30 a.m. to 5:00 p.m.

ROOM: 4002.

This meeting will discuss applications for the Humanities Initiatives at Community Colleges grant program, submitted to the Division of Education Programs.

7. DATE: October 9, 2015.

TIME: 8:30 a.m. to 5:00 p.m.

ROOM: 4002.

This meeting will discuss applications for the Humanities Initiatives at Community Colleges grant program, submitted to the Division of Education Programs.

8. DATE: October 15, 2015.

TIME: 8:30 a.m. to 5:00 p.m.

ROOM: P002.

This meeting will discuss applications on the subjects of American Studies: Folkways and Popular Culture, for the Humanities Collections and Reference Resources grant program, submitted to the Division of Preservation and Access.

9. DATE: October 20, 2015.

TIME: 8:30 a.m. to 5:00 p.m.

ROOM: P002.

This meeting will discuss applications on the subjects of New World Archeology and Cultures, for the Humanities Collections and Reference Resources grant program, submitted to the Division of Preservation and Access.

10. DATE: October 21, 2015.

TIME: 8:30 a.m. to 5:00 p.m.

ROOM: 4002.

This meeting will discuss applications on the subjects of Arts and Culture for Media Projects: Production Grants, submitted to the Division of Public Programs.

11. DATE: October 22, 2015.

TIME: 8:30 a.m. to 5:00 p.m.

ROOM: Virtual Panel.

This meeting will discuss applications on the subject of U.S. History and Culture: African American Studies, for the Humanities Collections and Reference Resources grant program, submitted to the Division of Preservation and Access.

12. DATE: October 22, 2015.

TIME: 8:30 a.m. to 5:00 p.m.

ROOM: Conference Call.

This meeting will discuss applications for Enduring Questions: Pilot Course Grants, submitted to the Division of Education Programs.

13. DATE: October 22, 2015.

TIME: 8:30 a.m. to 5:00 p.m.

ROOM: 4002.

This meeting will discuss applications on the subjects of World Arts and Culture, for Museums, Libraries, and Cultural Organizations: Implementation Grants, submitted to the Division of Public Programs.

14. DATE: October 27, 2015.

TIME: 8:30 a.m. to 5:00 p.m.

ROOM: P002.

This meeting will discuss applications on the subject of American Studies: Media Studies, for the Humanities Collections and Reference Resources grant program, submitted to the Division of Preservation and Access.

15. DATE: October 28, 2015.

TIME: 8:30 a.m. to 5:00 p.m.

ROOM: 4002.

This meeting will discuss applications on the subject of History, for Media Projects: Production Grants, submitted to the Division of Public Programs.

16. DATE: October 29, 2015.

TIME: 8:30 a.m. to 5:00 p.m.

ROOM: Virtual Meeting.

This meeting will discuss applications on the subject of Linguistics, for the Humanities Collections and Reference Resources grant program, submitted to the Division of Preservation and Access.

17. DATE: October 29, 2015.

TIME: 8:30 a.m. to 5:00 p.m.

ROOM: 4002.

This meeting will discuss applications on the subject History, for Media Projects: Production Grants, submitted to the Division of Public Programs. Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: September 10, 2015.
Lisette Voyatzis,
Committee Management Officer.

[FR Doc. 2015-23205 Filed 9-15-15; 8:45 am]

BILLING CODE 7536-01-P